DEPARTMENT OF HEALTH AND HUMAN SERVICES

National Institutes of Health

Center for Scientific Review; Amended Notice of Meeting

Notice is hereby given of a change in the meeting of the Center for Scientific Review Special Emphasis Panel, April 6, 2005, 1:30 p.m. to April 6 2005, 2:30 p.m., National Institutes of Health, 6701 Rockledge Drive, Bethesda, MD, 20892 which was published in the Federal Register on March 30, 2005, 70 FR 16295-16296.

The meeting will be held April 28, 2005, from 12:30 p.m. to 1:30 p.m. The meeting location remains the same. The meeting is closed to the public.

Dated: April 12, 2005.
LaVerne Y. Stringfield,
Director, Office of Federal Advisory Committee Policy.

[FR Doc. 05-7858 Filed 4-19-05; 8:45 am]

BILLING CODE 4140-01-M